DEPARTMENT OF TRANSPORTATION

Federal Aviation Administration

14 CFR Part 39

[Docket No. FAA-2022-1300; Project Identifier MCAI-2022-00663-T; Amendment 39-22318; AD 2023-02-11]

RIN 2120-AA64

Airworthiness Directives; Airbus SAS Airplanes

AGENCY: Federal Aviation Administration (FAA), DOT.

ACTION: Final rule.

SUMMARY: The FAA is adopting a new airworthiness directive (AD) for certain Airbus SAS Model A321-251NX, A321-252NX, A321-253NX, A321-271NX and A321-272NX airplanes. This AD was prompted by an emergency exit slide deployment test on an Airbus Cabin Flex (ACF) overwing emergency exit, the emergency exit slide did not deploy due to disconnected slide release cable junction. This AD requires a one-time detailed inspection of the installation of the ACF overwing emergency exit slide release mechanism for discrepancies, and applicable corrective actions, as specified in a European Union Aviation Safety Agency (EASA) AD, which is incorporated by reference. The FAA is issuing this AD to address the unsafe condition on these products.

DATES: This AD is effective April 17, 2023.

The Director of the Federal Register approved the incorporation by reference of a certain publication listed in this AD as of April 17, 2023.

ADDRESSES:

AD Docket: You may examine the AD docket at regulations.gov under Docket No. FAA-2022-1300; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

Material Incorporated by Reference:

• For material incorporated by reference in this AD, contact EASA, Konrad-Adenauer-Ufer 3, 50668 Cologne, Germany; telephone +49 221 8999 000; email ADs@easa.europa.eu; website easa.europa.eu. You may find this material on the EASA website at ad.easa.europa.eu.

• You may view this material at the FAA, Airworthiness Products Section, Operational Safety Branch, 2200 South 216th St., Des Moines, WA. For information on the availability of this material at the FAA, call 206-231-3195. It is also available in the AD docket at regulations.gov under Docket No. FAA-2022-1300.

FOR FURTHER INFORMATION CONTACT: Vladimir Ulyanov, Aerospace Engineer, Large Aircraft Section, FAA, International Validation Branch, 2200 South 216th St., Des Moines, WA 98198; telephone 206-231-3229; email Vladimir.Ulyanov@faa.gov.

SUPPLEMENTARY INFORMATION:

Background

The FAA issued a notice of proposed rulemaking (NPRM) to amend 14 CFR part 39 by adding an AD that would apply to certain Airbus SAS Model A321-251NX, A321-252NX, A321-253NX, A321-271NX and A321-272NX airplanes. The NPRM published in the Federal Register on October 21, 2022 (87 FR 63968). The NPRM was prompted by AD 2022-0090, dated May 18, 2022, issued by EASA, which is the Technical Agent for the Member States of the European Union (EASA AD 2022-0090) (also referred to as the MCAI). The MCAI states that during an emergency exit slide deployment test on an Airbus SAS Model A321neo ACF overwing emergency exit, the emergency exit slide did not deploy. The investigation identified that the slide release mechanism cable junction was disconnected inside the surrounding collets and knurled sleeve nut. The mushroom head connector was not inserted into the T-slot cable joint. This condition, if not corrected, could prevent emergency slide deployment, possibly resulting in injury to occupants during an emergency evacuation.

In the NPRM, the FAA proposed to require a one-time detailed inspection of the installation of the ACF overwing emergency exit slide release mechanism for discrepancies, and applicable corrective actions, as specified in EASA AD 2022-0090. The FAA is issuing this AD to address the unsafe condition on these products.

You may examine the MCAI in the AD docket at regulations.gov under Docket No. FAA-2022-1300.

Discussion of Final Airworthiness Directive

Comments

The FAA received comments from the Air Line Pilots Association, International (ALPA), which supported the NPRM without change.

The FAA received additional comments from American Airlines (AA). The following presents the comments received on the NPRM and the FAA's responses to each comment.

Request To Revise Compliance Time

AA requested to double the compliance time for the inspection to 8 months to allow AA to schedule roughly one A321NX aircraft per week during the compliance period. AA stated that no findings have been made on the four A321NX airplanes it has inspected. AA added that, in practice, configuration 2, inspection method 2 takes longer than the 14 man-hours specified in the associated Airbus Alert Operators Transmission (AOT), due to removal of the overhead stowage compartments (OHSCs). AA further noted that removal of the OHSCs to accomplish the inspection and corrective actions within the limited timeframe presents an undue burden on operations, since the OHSC removal is not a normal maintenance activity.

The FAA does not agree to change the compliance time because the commenter did not provide adequate justification for extension of the compliance time. Inspection of four airplanes with no findings does not ensure that unsafe condition is not present on other affected airplanes. Further, the FAA notes that the work-hours estimate was based on the data Airbus used when developing the required actions, and the commenter did not provide an alternative estimate for the work-hours. EASA, as the State of Design Authority for these airplanes, performed a risk assessment and determined the compliance time was appropriate based on the safety implications of the identified unsafe condition, as well as the practical aspect of completing the required actions during regular maintenance periods. While removal of the OHSCs may not be a normal maintenance practice, in this case it is necessary to perform the inspections and address the identified unsafe condition. However, the FAA will consider requests for an alternative method of compliance (AMOC) as specified in paragraph (j)(1) of this AD if sufficient data are submitted to substantiate that the compliance time extension would provide an acceptable level of safety. The FAA has not changed this AD in response to this comment.

Conclusion

This product has been approved by the aviation authority of another country and is approved for operation in the United States. Pursuant to the FAA's bilateral agreement with this State of Design Authority, it has notified the FAA of the unsafe condition described in the MCAI referenced above. The FAA reviewed the relevant data, considered the comments received, and determined that air safety requires adopting this AD as proposed. Accordingly, the FAA is issuing this AD to address the unsafe condition on this product. Except for minor editorial changes, this AD is adopted as proposed in the NPRM. None of the changes will increase the economic burden on any operator.

Related Service Information Under 1 CFR Part 51

EASA 2022-0090 specifies procedures for a one-time detailed inspection of the installation of the ACF overwing emergency exit slide release mechanism on both left hand (LH) and right hand (RH) sides of the fuselage for discrepancies (i.e., a disconnected slide release cable inside the sleeve nuts and collets (mushroom head not inserted in T-slot joint) and missing lockwire around the knurled sleeve nut), and applicable corrective actions. The corrective actions include connecting the slide release cable and installing lockwire on the knurled sleeve nut.

This material is reasonably available because the interested parties have access to it through their normal course of business or by the means identified in the ADDRESSES section.

Costs of Compliance

The FAA estimates that this AD affects 65 airplanes of U.S. registry. The FAA estimates the following costs to comply with this AD:

Estimated Costs for Required Actions
Labor cost | Parts cost | Cost per product | Cost on U.S. operators
14 work-hours × $85 per hour = $1,190 | $0 * | $1,190 | $77,350
* The FAA has received no definitive data on which to base the cost estimates for the parts specified in this AD.

The FAA estimates the following costs to do any necessary on-condition actions that would be required based on the results of any required actions. The FAA has no way of determining the number of aircraft that might need these on-condition actions:

Estimated Costs of On-Condition Actions
Labor cost | Parts cost | Cost per product
12 work-hours × $85 per hour = $1,020 | Negligible | $1,020

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2023-02-11 Airbus SAS: Amendment 39-22318; Docket No. FAA-2022-1300; Project Identifier MCAI-2022-00663-T.

(a) Effective Date

This airworthiness directive (AD) is effective April 17, 2023.

(b) Affected ADs

None.

(c) Applicability

This AD applies to Airbus SAS Model A321-251NX, A321-252NX, A321-253NX, A321-271NX and A321-272NX airplanes, certificated in any category, as identified in European Union Aviation Safety Agency (EASA) AD 2022-0090, dated May 18, 2022 (EASA AD 2022-0090).

(d) Subject

Air Transport Association (ATA) of America Code 52, Doors.

(e) Unsafe Condition

This AD was prompted by an emergency exit slide deployment test on an Airbus Cabin Flex (ACF) overwing emergency exit, where the emergency exit slide did not deploy due to a disconnected slide release cable junction. The FAA is issuing this AD to address the disconnected slide release cable junction, which could prevent emergency slide deployment, possibly resulting in injury to occupants during an emergency evacuation.

(f) Compliance

Comply with this AD within the compliance times specified, unless already done.

(g) Requirements

Except as specified in paragraphs (h) and (i) of this AD: Comply with all required actions and compliance times specified in, and in accordance with, EASA AD 2022-0090.

(h) Exceptions to EASA AD 2022-0090

(1) Where EASA AD 2022-0090 refers to its effective date, this AD requires using the effective date of this AD.

(2) The “Remarks” section of EASA AD 2022-0090 does not apply to this AD.

(3) Where paragraph (2) of EASA AD 2022-0090 specifies compliance times for corrective actions, for this AD, perform those corrective actions at the applicable times specified in paragraphs (h)(3)(i) through (iii) of this AD.

(i) If missing lockwire around the knurled sleeve nut is found and the slide release cable inside the sleeve nuts and collets is connected (mushroom head inserted in T-slot joint): Install lockwire within 4 months after the effective date of this AD.

(ii) If a disconnected slide release cable inside the sleeve nuts and collets (mushroom head not inserted in T-slot joint) is found and lockwire around the knurled sleeve nut is not missing: Connect slide release cable before further flight.

(iii) If a disconnected slide release cable inside the sleeve nuts and collets (mushroom head not inserted in T-slot joint) is found and the lockwire around the knurled sleeve nut is missing: Connect slide release cable and install lockwire before further flight.

(i) No Reporting Requirement

Although the service information referenced in EASA AD 2022-0090 specifies to submit certain information to the manufacturer, this AD does not include that requirement.

(j) Additional AD Provisions

The following provisions also apply to this AD:

(1) Alternative Methods of Compliance (AMOCs): The Manager, International Validation Branch, FAA, has the authority to approve AMOCs for this AD, if requested using the procedures found in 14 CFR 39.19. In accordance with 14 CFR 39.19, send your request to your principal inspector or responsible Flight Standards Office, as appropriate. If sending information directly to the International Validation Branch, send it to the attention of the person identified in paragraph (k) of this AD. Information may be emailed to: 9-AVS-AIR-730-AMOC@faa.gov. Before using any approved AMOC, notify your appropriate principal inspector, or lacking a principal inspector, the manager of the responsible Flight Standards Office.

(2) Contacting the Manufacturer: For any requirement in this AD to obtain instructions from a manufacturer, the instructions must be accomplished using a method approved by the Manager, International Validation Branch, FAA; or EASA; or Airbus SAS's EASA Design Organization Approval (DOA). If approved by the DOA, the approval must include the DOA-authorized signature.

(3) Required for Compliance (RC): Except as required by paragraph (j)(2) of this AD, if any service information referenced in EASA AD 2022-0090 contains paragraphs that are labeled as RC, the instructions in RC paragraphs, including subparagraphs under an RC paragraph, must be done to comply with this AD; any paragraphs, including subparagraphs under those paragraphs, that are not identified as RC are recommended. The instructions in paragraphs, including subparagraphs under those paragraphs, not identified as RC may be deviated from using accepted methods in accordance with the operator's maintenance or inspection program without obtaining approval of an AMOC, provided the instructions identified as RC can be done and the airplane can be put back in an airworthy condition. Any substitutions or changes to instructions identified as RC require approval of an AMOC.

(k) Additional Information

For more information about this AD, contact Vladimir Ulyanov, Aerospace Engineer, Large Aircraft Section, FAA, International Validation Branch, 2200 South 216th St., Des Moines, WA 98198; telephone 206-231-3229; email Vladimir.Ulyanov@faa.gov.

(l) Material Incorporated by Reference

(1) The Director of the Federal Register approved the incorporation by reference of the service information listed in this paragraph under 5 U.S.C. 552(a) and 1 CFR part 51.

(2) You must use this service information as applicable to do the actions required by this AD, unless this AD specifies otherwise.

(i) European Union Aviation Safety Agency (EASA) AD 2022-0090, dated May 18, 2022.

(ii) [Reserved]

(3) For EASA AD 2022-0090, contact EASA, Konrad-Adenauer-Ufer 3, 50668 Cologne, Germany; telephone +49 221 8999 000; email ADs@easa.europa.eu; website easa.europa.eu. You may find this EASA AD on the EASA website at ad.easa.europa.eu.

(4) You may view this material at the FAA, Airworthiness Products Section, Operational Safety Branch, 2200 South 216th St., Des Moines, WA. For information on the availability of this material at the FAA, call 206-231-3195.

(5) You may view this material that is incorporated by reference at the National Archives and Records Administration (NARA). For information on the availability of this material at NARA, email fr.inspection@nara.gov, or go to: www.archives.gov/federal-register/cfr/ibr-locations.html.

Issued on January 24, 2023.
Christina Underwood,
Acting Director, Compliance & Airworthiness Division, Aircraft Certification Service.

[FR Doc. 2023-04955 Filed 3-10-23; 8:45 am]

BILLING CODE 4910-13-P